DEPARTMENT OF THE INTERIOR

Bureau of Land Management

[17X.LLAZA01000.L54400000.EU0000.LVCLA17A5400; AZA-024631]

Notice of Realty Action: Proposed Town of Colorado City, Arizona, Airport Conveyance

AGENCY: Bureau of Land Management, Interior.

ACTION: Notice of realty action.

SUMMARY: The Bureau of Land Management (BLM) has examined and found suitable for conveyance to the Town of Colorado City, Arizona (Patentee), for airport purposes, parcels of public land located in Mohave County, Arizona, totaling 141.38 acres. The Federal Aviation Administration (FAA), on behalf of the Town of Colorado City, requested the conveyance of public lands to the Town of Colorado City for airport expansion to bring the Colorado City Municipal Airport into compliance with FAA safety and design standards.

DATES: Interested parties may submit written comments regarding this conveyance on or before January 9, 2020.

ADDRESSES: Comments concerning this Notice should be addressed to Lorraine M. Christian, Field Office Manager, BLM Arizona Strip Field Office, 345 East Riverside Drive, St. George, UT 84790.

FOR FURTHER INFORMATION CONTACT: Kendra Thomas, Realty Specialist, at the above address; phone 435-688-3211; or by email at klthomas@blm.gov. Persons who use a telecommunications device for the deaf (TDD) may call the Federal Relay Service (FRS) at 1-800-877-8339 to contact the above individual during normal business hours. The FRS is available 24 hours a day, 7 days a week, to leave a message or question for the above individual. You will receive a reply during normal business hours.

SUPPLEMENTARY INFORMATION: The BLM has examined and found the following public lands suitable for conveyance under Section 516 of the Airport and Airway Improvement Act of 1982 (Pub. L. 97-248; 49 U.S.C. 47125), 43 CFR 2640 and 14 CFR part 153:

Gila and Salt River Meridian, Arizona

T. 41 N., R. 7 W.,

Sec. 13, lots 1, 5, 6, 7, 9, and 11;

Sec. 14, lots 1, 2, 9 and 11.

The areas described contain 141.38 acres.

A map delineating the parcels are available for public review at the BLM Arizona Strip Field Office at the address above.

This Notice informs the public that the FAA, on behalf of the Town of Colorado City, is requesting the conveyance of public lands for airport expansion in order to comply with FAA safety and design standards in accordance with FAA Advisory Circular 150/5300-13A, to ensure safe and efficient airport operation. This project will convey 141.38 acres of public land to the Town of Colorado City for the Object Free Area, Runway Protection Zone, and Runway Visibility Zone to ensure the protection of compatible land use adjacent to the Airport.

Issuance of the document of conveyance is in accordance with the Arizona Strip Resource Management Plan, Decision Nos. MA-LR-04 and IMPL-LR-03. Public land will be made available for airport expansion at the existing Colorado City Municipal Airport (the BLM conveyed 111.89 acres to the city for the existing airport by Patent No. 02-94-0015 and Deed No. AZ-94-005) in coordination with the Colorado City officials, Arizona Department of Transportation, and the FAA, subject to the National Environmental Policy Act and Environmental Site Assessment compliance. Conveyance of the lands is consistent with applicable Federal and county land use plans and meets the needs of the community. The lands are not required for any other Federal purpose. This disposal action will not impede access to Federal lands used for recreation, as the Federal lands in the vicinity will continue to have public access. The conveyance would be subject to the provisions of Section 516 of the Airport and Airway Improvement Act of 1982 (Pub. L. 97-248; 49 U.S.C. 47125), FAA regulations at 14 CFR part 153, and applicable regulations of the Secretary of the Interior, including, but not limited to 43 CFR 2640 and the following reservations to the United States and covenants and conditions to the proposed patentee:

Excepting and Reserving to the United States:

1. A rights-of-way thereon for ditches or canals constructed under the authority of the United States, as authorized by the Act of August 30, 1890 (43 U.S.C. 945).

2. All minerals in the lands, together with the right to mine and remove the same under applicable laws and regulations. The Secretary of the Interior reserves the right to determine whether such mining and removal of minerals will interfere with the development, operation, and maintenance of the airport.

Subject to:

The rights for a telephone line granted to South Central Utah Telephone Association, its successors or assignees, by right-of-way No. AZA 24630, pursuant to the Act of October 21, 1976 (43 U.S.C. 1761).

By acceptance of this patent, the patentee agrees for itself, its successors or its assignees, that the following covenants and conditions shall attach to and run with the land being conveyed:

1. That the property interests herein conveyed will be used by the Patentee, its successors, or its assignees solely for public airport purposes in connection with the Colorado City Municipal Airport.

2. That the Patentee, its successors, or assignees shall not transfer or assign the property interests herein conveyed without approval of the Administrator of the Federal Aviation Administration (Administrator).

3. That the right is hereby reserved to the United States, its officers, agents, or employees to enter upon the said premises at any time for the purpose of inspection to inventory and when otherwise deemed necessary for the protection of the interests of the United States, and the Patentee shall have no claim of any character on account thereof against the United States or any officer, agent or employee thereof.

4. That all improvements constructed on the said premises by or under the authority of the Patentee, it successors, or its assignees shall be maintained in good order and repair without cost or expense to the United States.

5. That the United States shall not be responsible for any damages to property or injuries to persons which may arise from or be incident to the use or occupation of the said premises, or for damages to the property of the Patentee, its successors, or its assignees, or for damages to the property or injuries to the person of the Patentee's officers, agents, servants, or employees, or others who may be in or on said premises at their invitation or the invitation of any one of them, arising from or incident to governmental activities; and the Patentee, its successors, or its assignees shall hold the United States harmless from any and all such claims, except as applicable under the Federal Tort Claims Act.

6. That the United States reserves to itself and others rights-of-way for all purposes across, over, and/or under the said premises; provided: That such rights-of-way shall be used in a manner that will not create unnecessary interference with the use and enjoyment by the Patentee, its successors, or its assignees of said premises for public airport purposes.

7. That the Patentee, its successors, or its assignees will operate the airport, together with its appurtenant areas, buildings, and facilities regardless of whether they are on the lands conveyed, as a public use airport on fair and reasonable terms and without unjust discriminations.

8. That the Patentee, its successors, or its assignees will not grant or permit any exclusive right in the operation and use of the airport, together with its appurtenant areas, buildings, and facilities regardless of whether they are on the lands being conveyed, as required by section 303 of the Federal Aviation Act of 1938, as amended, and section 308(a) of the Federal Aviation Act of 1958, as amended.

9. That in the operation of the airport and its appurtenant areas, the Patentee, its successors, or its assignees:

a. Agrees that no person shall be excluded from any participation, be denied any benefits or be otherwise subjected to any discrimination, on the grounds of race, creed, color, national origin, disability, or sex;

b. agrees to comply with all requirements imposed by or pursuant to Part 21 of the Regulations of the Office of the Secretary of Transportation (49 CFR 21)—nondiscrimination in federally assisted programs of the Department of Transportation—effectuation of Title VI of the Civil Rights Act of 1964.

10. That any subsequent transfer of the conveyed property interest to another non-federal public entity will be subject to the terms, conditions, and covenants set forth in the original instrument of conveyance.

11. That any instrument used by the Patentee, its successors, or its assignees to lease the hereinabove described real property shall include the following covenants, conditions, restrictions and reservations:

a. There is hereby reserved to the Patentee, its successors or its assignees, for the use and benefit of the public, a right of flight for the passage of aircraft in the airspace above the surface of the above described real property, together with the right to cause in said airspace such noise as may be inherent in the operation of aircraft, now known or hereafter used for navigation of or flight in the said airspace, and for use of said airspace for landing on, taking off from, or operating on Colorado City Municipal Airport.

b. (Lessee, Licensee, Permittee, etc.), by (accepting this conveyance) (entering into this agreement), expressly agrees, for itself, its successors, and assigns, that it will not erect nor permit the erection of any structure or building nor permit objects of natural growth or other obstruction on the above described real property above a height as determined by the application of the requirements of 14 CFR part 77. In the event the aforesaid covenant is breached, the Patentee, its successors, or its assignees reserves the right to enter on the above described real property and to remove the offending structure or object and to cut the offending natural growth, all of which shall be at the expense of the (Lessee, Licensee, Permittee, etc.).

c. (Lessee, Licensee, Permittee, etc.), by (accepting this conveyance) (entering into this agreement), expressly agrees, for itself, its successors, or its assignees, that it will not make use of the above described real property in any manner which might interfere with the landing or taking off of aircraft at the Colorado City Municipal Airport, or otherwise constitute an airport hazard. In the event the aforesaid covenant is breached, the Patentee, its successors, or its assignees, reserves the right to enter on the said real property and cause the abatement of such interference at the expense of the (Lessee, Licensee, Permittee, etc.).

d. That the release granted hereby is for the purposes stated herein, only, and nothing contained herein shall be constructed as permitting a sale, or other alienation, by the Patentee, its successors, or its assignees with or without monetary consideration, except by prior approval of the Administrator.

12. A conveyance may be made only on the condition that the property interest conveyed reverts to the United States, at the option of the Secretary [of Transportation], to the extent it is not developed for an airport purpose or used consistently with the terms of the conveyance.

13. That a determination by the Administrator that one of the foregoing covenants has been breached is conclusive of the facts; and that, if the right of entry and possession of title stipulated in the foregoing covenants is exercised, the Patentee, its successors, or its assignees will, upon demand of the Administrator, or her/his successor in function, take any action (including prosecution of suit or executing of instruments) that may be necessary to evidence transfer to the United States of title to the property interest conveyed or, in the Administrator's discretion, to that part of that interest to which the breach relates.

This Notice segregates the above-described public lands from operation of the public land laws, including the mining laws. The segregative effect will end upon issuance of a document of conveyance or one year from the date of this publication, whichever occurs first.

Application Comments: Interested parties may submit comments regarding the specific use proposed in the application or any other factor not directly related to the suitability of the lands for an airport conveyance. The BLM Arizona State Director will review any adverse comments. In the absence of any adverse comments, the decision will become final. The lands will not be offered for conveyance until a determination of significance and Decision Record have been signed for the completed Environmental Assessment DOI-BLM-AZ-A010-2018-0016-EA found at: https://go.usa.gov/xPfmu.

Before including your address, phone number, email address, or other personal identifying information in your comment, you should be aware that your entire comment, including your personal identifying information, may be made available to the public at any time. While you can ask in your comment to withhold your personal identifying information from public review, we cannot guarantee that we will be able to do so.

Authority: 43 CFR 2640 and FAA 14 CFR part 153.

Lorraine M. Christian,
Field Manager.

[FR Doc. 2019-25508 Filed 11-22-19; 8:45 am]

BILLING CODE 4310-32-P